NUCLEAR REGULATORY COMMISSION

[Docket No. 72-1050; NRC-2016-0231]

Waste Control Specialists LLC's Consolidated Interim Spent Fuel Storage Facility Project

AGENCY: Nuclear Regulatory Commission.

ACTION: Intent to prepare an environmental impact statement and conduct a scoping process; request for comment.

SUMMARY: The U.S. Nuclear Regulatory Commission (NRC) received a license application by letter dated April 28, 2016, from Waste Control Specialists LLC (WCS). By this application, WCS is requesting authorization to construct and operate a Consolidated Interim Storage Facility (CISF) for spent nuclear fuel at WCS's facility in Andrews County, Texas (the proposed action). The WCS intends to store up to 40,000 metric tons uranium in the CISF. The NRC will prepare an environmental impact statement (EIS) to document the potential environmental impacts from the proposed action. As part of the EIS development process, the NRC is seeking comments on the scope of its environmental review.

DATES: The scoping period begins on November 14, 2016, and, if the application is docketed, will end 45 days after publication of a notice of docketing the WCS application.

ADDRESSES: You may submit scoping comments by any of the following methods (unless this document describes a different method for submitting comments on a specific subject):

• Federal Rulemaking Web site: Go to http://www.regulations.gov and search for Docket ID NRC-2016-0231. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

• Email Comments to: You may email scoping comments to the Project's email address: WCS_CISF_EIS@nrc.gov. Comments must be submitted by the closing date of the scoping period to ensure consideration.

For additional direction on obtaining information and submitting comments, see “Obtaining Information and Submitting Comments” in the SUPPLEMENTARY INFORMATION section of this document.

FOR FURTHER INFORMATION CONTACT: James Park, Office of Nuclear Material Safety and Safeguards, U.S. Nuclear Regulatory Commission, Washington DC, 20555-0001; telephone: 301-415-6954; email: James.Park@nrc.gov.

SUPPLEMENTARY INFORMATION:

I. Obtaining Information and Submitting Comments

A. Obtaining Information

Please refer to Docket ID NRC-2016-0231 when contacting the NRC about the availability of information regarding this document. You may obtain publicly-available information related to this action by the following methods:

• Federal Rulemaking Web site: Go to http://www.regulations.gov and search for Docket ID NRC-2016-0231.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. In addition, for the convenience of the reader, instructions about obtaining materials referenced in this document are provided in a table in Section VII of this notice entitle, Availability of Documents.

• NRC'S PDR: You may examine and purchase copies of public documents at the NRC's PDR, Room O1-F21, One White Flint North, 11555 Rockville Pike, Rockville, Maryland 20852.

• Project Web page: Information related to the WCS CISF project can be accessed on the NRC's WCS CISF Web page at: http://www.nrc.gov/waste/spent-fuel-storage/cis/waste-control-specialist.html.

B. Submitting Comments

Please include Docket ID NRC-2016-0231 in your comment submission. Written comments may be submitted during the scoping period as described in the ADDRESSES section of the document.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

By letter dated April 28, 2016, WCS submitted an application to the NRC for a specific license, pursuant to part 72 of title 10 of the Code of Federal Regulations (10 CFR), “Licensing Requirements for the Independent Storage of Spent Nuclear Fuel, High-Level Radioactive Waste, and Reactor-Related Greater Than Class C Waste.” The WCS is seeking to construct and operate a consolidated interim storage facility (CISF) for spent nuclear fuel at WCS's facility in Andrews County, Texas. As proposed by WCS, the CISF would store up to 40,000 metric tons uranium (MTU) for a 40-year license period. The WCS site is located on Texas Highway 176 West, approximately 32 miles west of Andrews, Texas and 5 miles east of Eunice, New Mexico.

The NRC staff is conducting an acceptance review of WCS's license application to determine if it contains sufficient information for NRC to conduct a detailed technical review. By letter dated June 22, 2016, the NRC staff provided the results of its acceptance review to WCS and requested supplemental information in order to accept the application for detailed review. WCS, by letter dated July 6, 2016, provided its schedule for submitting the supplemental information, noting that it would provide information related to its environmental report (ER) by July 20, 2016. The WCS provided the supplemental information related to its ER and a revised ER on July 20, 2016. The ER can be found on the NRC's project-specific Web page at: http://www.nrc.gov/waste/spent-fuel-storage/cis/wcs/wcs-app-docs.html.

In its July 6, 2016, letter, WCS also stated its intent to provide supplemental information for the safety analysis report (SAR), physical security plan (PSP), and emergency response plan (ERP) portions of the license application. If, after receiving and reviewing that supplemental information for the SAR, PSP, and ERP portions of the application, the NRC staff determines that it is sufficient to conduct the detailed technical review, the NRC will publish in the Federal Register a notice of docketing of WCS's license application and a notice of opportunity to request a hearing. Accordingly, no requests for hearing should be filed unless and until the NRC has accepted WCS's complete application for detailed review.

By letter dated July 21, 2016, WCS requested that the NRC begin its EIS process as soon as practicable. In an October 7, 2016 response, the NRC staff stated that it would begin the EIS process in advance of its decision on whether to accept the WCS application, because it would further the purposes of the staff's NEPA review. The NRC staff also stated that this decision does not presuppose the outcome of its ongoing acceptance review of the WCS application.

The purpose of this notice is to: (1) Inform the public that the NRC staff will prepare an EIS as part of its review of WCS's license application in accordance with 10 CFR part 51 “Environmental Protection Regulations for Domestic Licensing and Related Regulatory Functions,” and (2) provide the public with an opportunity to participate in the environmental scoping process as defined in 10 CFR 51.29. In addition, as outlined in 36 CFR 800.8, “Coordination with the National Environmental Policy Act,” the NRC plans to coordinate compliance with Section 106 of the National Historic Preservation Act in meeting the requirements of the National Environmental Policy Act of 1969 (NEPA). The NRC staff also will document its compliance with other applicable federal statutes, such as the Endangered Species Act, in the EIS.

III. Environmental Review

The EIS prepared by the NRC staff will examine the potential environmental impacts of the proposed action. The NRC staff will evaluate the potential impacts to various environmental resources, such as air quality, surface and ground water, transportation, geology and soils, and socioeconomics. The EIS will analyze potential impacts of WCS's proposed facility on historic and cultural resources and on threatened and endangered species. Additionally, the economic, technical, and other benefits and costs of the proposed action and alternatives will be considered in the EIS.

If the application is accepted for a detailed technical review, the NRC staff will also conduct a safety review to determine WCS's compliance with NRC's regulations, including 10 CFR part 20, “Standards for Protection Against Radiation” and 10 CFR part 72. The NRC staff's findings would be published in a safety evaluation report.

IV. CISF Construction and Operation

The NRC's Federal action is to either grant or deny WCS's request for a license. If the NRC approves WCS's request, then WCS could proceed with the proposed project—the construction and operation of the CISF—as described in its application and summarized here.

The WCS proposes to construct the CISF on its approximately 60.3 square kilometer (14,900 acre) site in western Andrews County, Texas. On this site, WCS currently operates facilities that process and store certain types of radioactive material, mainly Low-Level Waste (LLW) and Mixed Waste (i.e., waste that is both hazardous waste and LLW). The facility also disposes of hazardous and toxic waste.

The WCS plans to construct the CISF in eight phases. Phase one of the CISF would be designed to provide storage for up to 5,000 MTU of spent nuclear fuel received from commercial nuclear power reactors across the United States. The WCS proposes that small amounts of mixed oxide spent fuels and Greater Than Class C (GTCC) LLW wastes also be stored at the CISF. The WCS stated that it would design each subsequent phase of the CISF to store up to an additional 5,000 MTU for a total of up to 40,000 MTU being stored at the site by the completion of the final phase. Each phase would require NRC review and approval.

The WCS would receive canisters containing spent nuclear fuel from the reactor sites, and once accepted at its site, WCS would transfer them into onsite dry cask storage systems. The WCS stated that it would employ dry cask storage system technology that has been licensed by the NRC pursuant to 10 CFR part 72 at various commercial nuclear reactors across the country. The WCS stated that the dry cask storage systems proposed for use at the CISF would be passive systems (i.e., not relying on any moving parts) and would provide physical protection, containment, nuclear criticality controls and radiation shielding required for the safe storage of the spent nuclear fuel. The WCS also stated that the dry cask storage systems would be located on top of the concrete pads constructed at the CISF. The WCS is requesting a license for a term of 40 years.

V. Alternatives To Be Evaluated

The EIS will analyze the environmental impacts of the proposed action, the no-action alternative, and reasonable alternatives. A brief description of each is provided below.

No-Action Alternative—The no-action alternative would be to deny the license application. Under this alternative, the NRC would not issue the license and WCS would not construct nor operate the CISF at its site in west Texas. Existing waste handling, storage, and disposal operations at the WCS site unrelated to storage of spent nuclear fuel would continue. This alternative serves as a baseline for the comparison of environmental impacts of the proposed action and the reasonable alternatives.

Proposed action—The proposed Federal action is to issue a license to WCS authorizing the company to construct and operate the CISF. If the NRC approves the license application, it would issue WCS a specific license under the provisions of 10 CFR part 72, and WCS would proceed with the proposed activities.

Alternatives to the Proposed Action—Other alternatives not listed here may be identified during scoping or through the environmental review process.

VI. Scope of the Environmental Review

The NRC staff is conducting a scoping process for the WCS EIS, which begins on the day this notice appears in the Federal Register. In accordance with 10 CFR 51.29, the NRC seeks public input to help the NRC determine the appropriate scope of the EIS, including significant environmental issues to be analyzed in depth, as well as those that should be eliminated from detailed study because they are peripheral or are not significant. The NRC staff is planning to publish information related to this action in newspapers serving communities near the WCS site, requesting information and comments during the scoping period from the public. Additionally, if WCS's application is found acceptable for detailed review, the NRC may hold public scoping meetings to receive comments in person in accordance with 10 CFR 51.26. The dates, times, and locations for any meetings will be provided in a future Federal Register notice.

After the close of the scoping period, the NRC will prepare a concise summary of its scoping process, the comments received, as well as the NRC's responses. The Scoping Summary Report will be included in NRC's draft EIS as an appendix and sent to each participant in the scoping process for whom the staff has an address.

The WCS EIS will address the potential impacts from the proposed action. The anticipated scope of the EIS will consider both radiological and non-radiological (including chemical) impacts associated with the proposed project and its alternatives. The EIS will also consider unavoidable adverse environmental impacts, the relationship between short-term uses of resources and long-term productivity, and irreversible and irretrievable commitments of resources. The following resource areas have been tentatively identified for analysis in the WCS EIS: Land use, transportation, geology and soils, water resources, ecological resources, air quality and climate change, noise, historical and cultural resources, visual and scenic resources, socioeconomics, public and occupational health, waste management, environmental justice, and cumulative impacts. This list is not intended to be exhaustive, nor is it a predetermination of potential environmental impacts. The EIS will describe the NRC staff's approach and methodology undertaken to determine the resource areas that will be studied in detail and the NRC staff's evaluation of potential impacts to those resource areas.

The NRC encourages members of the public, local, State, Tribal, and Federal government agencies to participate in the scoping process. Written comments may be submitted during the scoping period as described in the ADDRESSES and SUPPLEMENTARY INFORMATION section of this document. Participation in the scoping process for the WCS EIS does not entitle participants to become parties to any proceeding to which the EIS relates.

In addition to requesting scoping comments through this Federal Register notice, the NRC staff also intends to reach out to interested stakeholders, including other Federal and State agencies and Indian Tribes. The NRC staff seeks to identify, among other things, all review and consultation requirements related to the proposed action, and agencies with jurisdiction by law or special expertise with respect to any environmental impact involved or which is authorized to develop and enforce relevant environmental standards. The NRC invites such agencies to participate in the scoping process and, as appropriate, cooperate in the preparation of the EIS.

The NRC staff will continue its environmental review of WCS's license application, and with its contractor, prepare a draft EIS and, as soon as practicable, publish it for public comment. The NRC staff plans to have a public comment period for the draft EIS. Availability of the draft EIS and the dates of the public comment period will be announced in a future Federal Register notice. The final EIS will include NRC's responses to public comments received on the draft EIS.

VII. Availability of Documents

The documents identified in this Federal Register notice are accessible to interested persons by the means indicated in either the SUPPLEMENTARY INFORMATION section of this notice or in the table below.

Document | ADAMS Accession No.
WCS's CISF license application, with Environmental Report | ML16133A070
NRC request for supplemental information | ML16175A277
WCS letter with schedule for response to NRC request for supplemental information | ML16193A314
WCS submittal of initial responses to NRC request for supplemental information | ML16229A537
WCS request for NRC to begin EIS process as soon as practicable | ML16229A340
WCS submittal of second responses to NRC request for supplemental information | ML16265A454
NRC response to WCS request to begin EIS process as soon as practicable | ML16285A317
WCS submittal of third responses to NRC request for supplemental information | ML16294A134

Dated at Rockville, Maryland, this 4th day of November, 2016.
For the U.S. Nuclear Regulatory Commission.
Brian W. Smith,
Deputy Director, Division of Fuel Cycle Safety, Safeguards, and Environmental Review, Office of Nuclear Material Safety and Safeguards.

[FR Doc. 2016-27353 Filed 11-10-16; 8:45 am]

BILLING CODE 7590-01-P